DEPARTMENT OF HOMELAND SECURITY

Coast Guard

33 CFR Part 100

[Docket No. USCG-2023-0783]

Special Local Regulations; OPA World Championships; Gulf of Mexico; Englewood, FL

AGENCY: Coast Guard, DHS.

ACTION: Notification of enforcement of regulation.

SUMMARY: The Coast Guard will enforce special local regulations for the OPA World Championships to provide for the safety of life on navigable waterways during this event. Our regulation for marine events within the Seventh Coast Guard District identifies the regulated area for this event in Englewood Beach, FL. During the enforcement periods, the operator of any vessel in the regulated area must comply with directions from the Patrol Commander or any designated representative.

DATES: The regulations in 33 CFR 100.703 will be enforced daily from 8 a.m. until 6 p.m. on November 18, 2023, through November 19, 2023, for the location identified in Item 8 in table 1 to § 100.703.

FOR FURTHER INFORMATION CONTACT: If you have questions about this notification of enforcement, call or email Marine Science Technician First Class Mara Brown, Sector St. Petersburg Prevention Department, Coast Guard; telephone 813-228-2191, email mara.j.brown@uscg.mil.

SUPPLEMENTARY INFORMATION: The Coast Guard will enforce the special local regulations in 33 CFR 100.703 for the OPA World Championships identified in Table 1 to § 100.703, Item No. 8, from 8 a.m. until 6 p.m., on November 18, 2023, through November 19, 2023. This action is being taken to provide for the safety of life on navigable waterways during this event. Our regulation for recurring marine events, Sector St. Petersburg, § 100.703, Table 1 to § 100.703, Item No. 8, specifies the locations of the regulated area for the OPA World Championships which encompasses portions of the Gulf of Mexico near Englewood, FL. During the enforcement periods, as reflected in § 100.703(c), if you are the operator of a vessel in the regulated area you must comply with directions from the Patrol Commander or any designated representative.

In addition to this notice of enforcement in the Federal Register, the Coast Guard plans to provide notification of this enforcement period via the Local Notice to Mariners, marine information broadcasts, or both.

Dated: November 2, 2023.
Michael P. Kahle,
Captain, U.S. Coast Guard, Captain of the Port St. Petersburg.

[FR Doc. 2023-24787 Filed 11-8-23; 8:45 am]

BILLING CODE 9110-04-P